DEPARTMENT OF TRANSPORTATION

Federal Aviation Administration

14 CFR Part 39

[Docket No. FAA-2011-0468; Directorate Identifier 2011-CE-013-AD; Amendment 39-16697; AD 2011-10-16]

RIN 2120-AA64

Airworthiness Directives; PIAGGIO AERO INDUSTRIES S.p.A Model P-180 Airplanes

AGENCY: Federal Aviation Administration (FAA), DOT.

ACTION: Final rule; request for comments.

SUMMARY: We are adopting a new airworthiness directive (AD) for the products listed above that will supersede an existing AD. This emergency AD was sent previously to all known U.S. owners and operators of PIAGGIO AERO INDUSTRIES S.p.A (Piaggio) Model PIAGGIO P-180 airplanes. This AD results from mandatory continuing airworthiness information (MCAI) issued by the aviation authority of another country to identify and correct an unsafe condition on an aviation product. The MCAI describes the unsafe condition as:

Prompted by reports of water accumulated in the lower part of the fuselage on a number of Piaggio Model P.180 aeroplanes, which resulted in jamming of the flight controls, on 17 December 2010, the Federal Aviation Administration (FAA), the authority of the State of Registry of the affected aeroplanes, issued Emergency AD 2011-01-51 to require an immediate functional test of the fuselage drain holes and a report of the results to the FAA. That AD was later superseded, on 20 December 2010, by FAA Emergency AD 2011-01-53.

This condition, if not detected and corrected, could, when the aeroplane reaches and holds an altitude where the temperature is below the freezing point, cause the flight controls to freeze and jam, possibly resulting in loss of control of the aeroplane.

Since these AD actions were taken, Piaggio Aero Industries, the type design approval holder and manufacturer of these aeroplanes, have published Alert Service Bulletin (SB) 80-0324, which describes the same inspection, testing and correction instructions as contained in the FAA Emergency AD. EASA AD 2010-0269-E required the inspection and functional testing of the fuselage drain holes, corrective actions depending on findings, and reporting of the findings to Piaggio Aero Industries.

Following issuance of EASA AD, another event of in-flight blockage of flight controls was reported by an operator. The aeroplane was already compliant with EASA AD 2010-0269-E, and during accomplishment of the AD required inspection no discrepancies had been noted, nor water or ice accumulation were reported. As a consequence, additional drain holes were not drilled.

This AD requires actions that are intended to address the unsafe condition described in the MCAI.

DATES: This AD is effective May 31, 2011 to all persons except those persons to whom it was made immediately effective by Emergency AD 2011-09-51, issued on April 26, 2011, which contained the requirements of this amendment.

On May 31, 2011, the Director of the Federal Register approved the incorporation by reference of certain publications listed in this AD.

We must receive comments on this AD by June 27, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Piaggio Aero Industries S.p.A-Airworthiness Office; Via Luigi Cibrario, 4—16154 Genova—Italy; telephone: +39 010 6481353; fax: +39 010 6481881; E-mail: airworthiness@piaggioaero.it. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Mike Kiesov, Aerospace Engineer, 901 Locust, Room 301, Kansas City, Missouri 64106; telephone: (816) 329-4144; fax: (816) 329-4090.

SUPPLEMENTARY INFORMATION:

Discussion

The FAA received information on two incidents where Piaggio Model P-180 airplanes had water accumulation in the belly of the fuselage that froze and caused the flight controls to jam. On December 20, 2010, we issued Emergency AD 2011-01-53, amendment 39-16582 (76 FR 4056, January 24, 2011) to require an immediate functional test of the fuselage drain holes and a report of the results to the FAA. It also allows, with noted exceptions, for the return/position of the airplane to a home base, hangar, maintenance facility, etc.

Since we issued AD 2011-01-53, another Piaggio P-180 airplane experienced jamming of the flight control cables also due to water accumulating and freezing in the lower fuselage area. This event happened after this airplane had complied with AD 2011-01-53, noting no problems with the fuselage drain system.

The European Aviation Safety Agency (EASA), which is the Technical Agent for the Member States of the European Community, has issued AD No.: 2011-0074-E, dated April 22, 2011 (referred to after this as “the MCAI″), to correct an unsafe condition for the specified products. The MCAI states:

* * * another event of in-flight blockage of flight controls was reported by an operator. The aeroplane was already compliant with EASA AD 2010-0269-E, and during accomplishment of the AD required inspection no discrepancies had been noted, nor water or ice accumulation were reported. As a consequence, additional drain holes were not drilled.

For the reasons described above, this AD, which supersedes EASA AD 2010-0269-E, requires, in order to improve efficiency of the drainage system, to cut the rubber flap of the 2 aft flapper valves, to inspect the flapper valves for proper functioning and the subsequent accomplishment of a functional test of the fuselage drain holes.

Furthermore, for those MSN not compliant with Piaggio Aero Industries Service Bulletin (SB) 80-0291 and where no additional drain holes had been drilled in accordance with the accomplishment instructions of Piaggio Aero Industries Alert Service Bulletin ASB-80-0324, step 5, this AD requires drilling additional drain holes.

It is finally required to report the inspection results to Piaggio Aero industries.

You may obtain further information by examining the MCAI in the AD docket.

Relevant Service Information

PIAGGIO AERO INDUSTRIES S.p.A has issued Service Bulletin (Mandatory) N.: 80-0330, dated April 21, 2011. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because water may accumulate in the belly of the fuselage and freeze, which may cause the flight controls to jam. This condition may lead to loss of control. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-0468; Directorate Identifier 2011-CE-013-AD″ at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 102 products of U.S. registry. We also estimate that it would take about 9 work-hours per product to comply with the basic requirements of this AD. The average labor rate is $85 per work-hour.

Based on these figures, we estimate the cost of the AD on U.S. operators to be $78,030, or $765 per product.

Authority for This Rulemaking

Title 49 of the United States Code specifies the FAA's authority to issue rules on aviation safety. Subtitle I, section 106, describes the authority of the FAA Administrator. “Subtitle VII: Aviation Programs,″ describes in more detail the scope of the Agency's authority.

We are issuing this rulemaking under the authority described in “Subtitle VII, Part A, Subpart III, Section 44701: General requirements.″ Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action″ under Executive Order 12866;

(2) Is not a “significant rule″ under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16582 (76 FR 4056, January 24, 2011), and adding the following new AD:

2011-09-51 Piaggio Aero Industries S.P.A.: Amendment 39-16697; Docket No. FAA-2011-0468; Directorate Identifier 2011-CE-013-AD.

Effective Date

(a) This airworthiness directive (AD) becomes effective May 31, 2011.

Affected ADs

(b) This AD supersedes AD 2011-01-53, Amendment 39-16582.

Applicability

(c) This AD applies to Piaggio Aero Industries S.p.A. Models P-180 airplanes, all serial numbers, certified in any category.

Subject

(d) Air Transport Association of America (ATA) Code 53: Fuselage.

Reason

(e) The mandatory continuing airworthiness information (MCAI) states:

* * * another event of in-flight blockage of flight controls was reported by an operator. The aeroplane was already compliant with EASA AD 2010-0269-E, and during accomplishment of the AD required inspection no discrepancies had been noted, nor water or ice accumulation were reported. As a consequence, additional drain holes were not drilled.

For the reasons described above, this AD, which supersedes EASA AD 2010-0269-E, requires, in order to improve efficiency of the drainage system, to cut the rubber flap of the 2 aft flapper valves, to inspect the flapper valves for proper functioning and the subsequent accomplishment of a functional test of the fuselage drain holes.

Furthermore, for those MSN not compliant with Piaggio Aero Industries Service Bulletin (SB) 80-0291 and where no additional drain holes had been drilled in accordance with the accomplishment instructions of Piaggio Aero Industries Alert Service Bulletin ASB-80-0324, step 5, this AD requires drilling additional drain holes.

It is finally required to report the inspection results to Piaggio Aero industries.

Actions and Compliance

(f) Unless already done, do the following actions:

(1) Within the next 10 hours time-in-service (TIS) after May 31, 2011 (the effective date of this AD) or within the next 10 days after May 31, 2011 (the effective date of this AD), whichever occurs first, cut off the rubber flap of the two flapper valves near frame 36, inspect the flapper valves, and do the functional test of the valves and fuselage drainage holes following Part A of PIAGGIO AERO INDUSTRIES S.p.A. Service Bulletin (Mandatory) N.: 80-0330, dated April 21, 2011.

(2) If in the inspection and functional test required in paragraph (f)(1) of this AD the valves and drain holes are found to not drain properly, before further flight, take corrective action following Part A of PIAGGIO AERO INDUSTRIES S.p.A. Service Bulletin (Mandatory) N.: 80-0330, dated April 21, 2011.

(3) Within the next 165 hours TIS after May 31, 2011 (the effective date of this AD) or within the next 90 days after May 31, 2011 (the effective date of this AD), whichever occurs first, add drain holes on keel beam webs connecting the lateral bays to the center bays following Part B of PIAGGIO AERO INDUSTRIES S.p.A. Service Bulletin (Mandatory) N.: 80-0330, dated April 21, 2011; or PIAGGIO AERO INDUSTRIES S.p.A. Service Bulletin (Mandatory) N.: 80-0291, dated November 29, 2010.

(4) Within 10 days after complying with the actions required in paragraphs (f)(1), (f)(2), and (f)(3) of this AD or within 10 days after May 31, 2011 (the effective date of this AD), whichever occurs later, report the results (including no findings) using the Confirmation Slip attached to PIAGGIO AERO INDUSTRIES S.p.A. Service Bulletin (Mandatory) N.: 80-0330, dated April 21, 2011. Send the report to Piaggio at one of the addresses (facsimile, email) referenced in the Related Information section, paragraph (i)(2) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For the reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(h) Refer to EASA AD No.: 2011-0074-E, dated April 22, 2011; PIAGGIO AERO INDUSTRIES S.p.A. Service Bulletin (Mandatory) N.: 80-0330, dated April 21, 2011; and PIAGGIO AERO INDUSTRIES S.p.A. Service Bulletin (Mandatory) N.: 80-0291, dated November 29, 2010 for related information.

Material Incorporated by Reference

(i) You must use PIAGGIO AERO INDUSTRIES S.p.A. Service Bulletin (Mandatory) N.: 80-0330, dated April 21, 2011; and PIAGGIO AERO INDUSTRIES S.p.A. Service Bulletin (Mandatory) N.: 80-0291, dated November 29, 2010, to do the actions required by this AD, unless the AD specifies otherwise.

(1) The Director of the Federal Register approved the incorporation by reference of this service information under 5 U.S.C. 552(a) and 1 CFR part 51.

(2) For service information identified in this AD, contact Piaggio Aero Industries S.p.A-Airworthiness Office; Via Luigi Cibrario, 4—16154 Genova—Italy; telephone: +39 010 6481353; fax: +39 010 6481881; E-mail: airworthiness@piaggioaero.it.

(3) You may review copies of the referenced service information at the FAA, Small Airplane Directorate, 901 Locust, Kansas City, Missouri 64106. For information on the availability of this material at the FAA, call (816) 329-4148.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on May 4, 2011.
Earl Lawrence,
Manager, Small Airplane Directorate, Aircraft Certification Service.

[FR Doc. 2011-11330 Filed 5-12-11; 8:45 am]

BILLING CODE 4910-13-P